DEPARTMENT OF DEFENSE

Department of the Army

Notice of Availability for Exclusive, Non-Exclusive, or Partially-Exclusive Licensing of an Invention Concerning Imidazenil, or a Combination of Imidazenil and [+]-Huperzine A and/or [-]-Huperzine A for Protection Against and/or Treatment of Seizure/Status Epilepticus and Neuropathology Following Nerve Agent or Organophosphate Exposure, Compositions and Kits

AGENCY: Department of the Army, DoD.

ACTION: Notice.

SUMMARY: Announcement is made of the availability for licensing of the invention set forth in U.S. Provisional Patent Application Serial No. 61/726,753, entitled “Imidazenil, or a Combination of Imidazenil and [+]-Huperzine A and/or [-]-Huperzine A for Protection Against and/or Treatment of Seizure/Status Epilepticus and Neuropathology Following Nerve Agent or Organophosphate Exposure, Compositions and Kits,” filed on November 15, 2012. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to methods, compositions and kits for use in protection against and/or treatment of chemical warfare nerve agent (CWNA) and/or organophosphate (OP) pesticide/insecticide exposure. In particular, the present invention relates to methods, compositions and kits for treating, preventing, inhibiting or reducing a seizure, status epilepticus, neuropathogenesis, or a neuropathology caused by exposure to a CWNA or an OP pesticide/insecticide using (a) imidazenil, (b) a combination treatment comprising imidazenil and [+]-Huperzine A, (c) a combination treatment comprising imidazenil and [-]-Huperzine A, or (d) a combination treatment comprising imidazenil, [+]-Huperzine A and [-]-Huperzine A.

Brenda S. Bowen,
Army Federal Register Liaison Officer.

[FR Doc. 2014-00286 Filed 1-10-14; 8:45 am]

BILLING CODE 3710-08-P